FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 4428F.

Name: A A Shipping LLC.

Address: 15675 South Hawthorne Blvd., #A, Lawndale, CA 90260.

Date Revoked: July 15, 2001.

Reason: Failed to maintain a valid bond.

License Number: 13733N.

Name: All-Connections Express (U.S.A.) Inc.

Address: 463 Littlefield Avenue, S. San Francisco, CA 94080.

Date Revoked: July 21, 2001.

Reason: Failed to maintain a valid bond.

License Number: 15980N.

Name: American Gateway, Inc.

Address: 1850 NW 84th Avenue, Suite 108, Miami, FL 33126.

Date Revoked: July 4, 2001.

Reason: Failed to maintain a valid bond.

License Number: 6082N.

Name: Brennan International Transport, Incorporated.

Address: 2665 E. Del Amo Blvd., Rancho Dominguez, CA 90221.

Date Revoked: July 11, 2001.

Reason: Failed to maintain a valid bond.

License Number: 16125N.

Name: Bulk Connection, Inc.

Address: 15 Allen Street, Mystic, CT 06355.

Date Revoked: June 22, 2001.

Reason: Failed to maintain a valid bond.

License Number: 14140N.

Name: Cargo Network International, Inc.

Address: One Cross Island Plaza, Suite 103, Rosedale, NY 11422.

Date Revoked: July 13, 2001.

Reason: Failed to maintain a valid bond.

License Number: 17101N.

Name: Cargocare Logistics, Ltd.

Address: 34 Harvest Lane, Stonebridge, Burlington, NJ 08016.

Date Revoked: July 27, 2001.

Reason: Surrendered license voluntarily.

License Number: 3994F and 3994N.

Name: Corexport Corporation dba Core Marine Carriers.

Address: 7031 Albert Pick Road, Suite 102, Greensboro, NC 27409.

Date Revoked: February 18, 2001 and April 20, 2001.

Reason: Failed to maintain valid bonds.

License Number: 4561NF.

Name: Crossbar, Inc.

Address: 2012 E. Phelps, Suite A1, Springfield, MO 65802.

Date Revoked: June 16, 2001.

Reason: Failed to maintain valid bonds.

License Number: 14995N.

Name: Daniel Hyung Keun Cho dba Transtech Worldwide Line.

Address: 1487 W. 178th Street, 3rd FL., Gardena, CA 90248.

Date Revoked: June 21, 2001.

Reason: Failed to maintain a valid bond.

License Number: 14642N.

Name: Freight IFS, Inc.

Address: 335 Richert Drive, Wood Dale, IL 60191.

Date Revoked: July 4, 2001.

Reason: Failed to maintain a valid bond.

License Number: 16441NF.

Name: Freightex, Inc. dba Freightex Marine.

Address: 1404 North Belt East, Suite 130, Houston, TX 77032.

Date Revoked: July 13, 2001.

Reason: Failed to maintain valid bonds.

License Number: 17056NF.

Name: From2.Com, Inc.

Address: 8100 Oak Lane, Suite 200, Miami Lakes, FL 33016.

Date Revoked: July 25, 2001.

Reason: Failed to maintain valid bonds.

License Number: 3731F.

Name: Global Freight Inc.

Address: 147-27 175th Street, Jamaica, NY 11434.

Date Revoked: July 12, 2001.

Reason: Failed to maintain a valid bond.

License Number: 16049F.

Name: International Cargo Transporters, Inc.

Address: 2550 72nd Avenue, Suite 109, Miami, FL 33122.

Date Revoked: June 21, 2001.

Reason: Failed to maintain a valid bond.

License Number: 4055N.

Name: International Cargo Services, Inc.

Address: 139 Mitchell Avenue, Suite 107, So. San Francisco, CA 94080.

Date Revoked: June 28, 2001.

Reason: Failed to maintain a valid bond.

License Number: 16061F.

Name: Jo-yu A. Wu dba Opus One USA.

Address: 1754 40th Avenue, San Francisco, CA 94122.

Date Revoked: June 18, 2001.

Reason: Surrendered license voluntarily.

License Number: 3413N and 3413F.

Name: Lift Forwarders, Inc.

Address: 19480 Southwest 118th Avenue, Tualatin, OR 97062-8008.

Date Revoked: June 1, 2001 and July 25, 2001.

Reason: Failed to maintain valid bonds.

License Number: 1868F.

Name: Marcelo V. Castro dba Universal Forwarders.

Address: 113 W. Grand Avenue, El Segundo, CA 90245.

Date Revoked: July 5, 2001.

Reason: Failed to maintain a valid bond.

License Number: 11179N.

Name: Mercator Shipping, Ltd. dba Flamingo Line.

Address: 11825 NW 100th Road, Suite 5, Miami, FL 33178.

Date Revoked: June 14, 2001.

Reason: Failed to maintain a valid bond.

License Number: 17270N.

Name: Neutral Line (U.S.A.) Inc.

Address: 8600 NW 53rd Terrace, Suite 123, Miami, FL 33166.

Date Revoked: July 8, 2001.

Reason: Failed to maintain a valid bond.

License Number: 4105F.

Name: Overseas Mahanm Inc.

Address: 24 Lillian Lane, Plainview, NY 11803-5613.

Date Revoked: July 14, 2001.

Reason: Failed to maintain a valid bond.

License Number: 4196NF.

Name: Pan Atlantic Carriers Services, Inc.

Address: 2150 NW 70th Avenue, Miami, FL 33122.

Date Revoked: June 20, 2001.

Reason: Failed to maintain valid bonds.

License Number: 17146N.

Name: Relotrans International, Inc.

Address: 16 Bonnievale Drive, Bedford, MA 01730.

Date Revoked: July 27, 2001.

Reason: Failed to maintain a valid bond.

License Number: 12256N.

Name: Single Source Transportation, Inc.

Address: 26986 Trolley Industrial Drive, P.O. Box 130, Taylor, MI 48180.

Date Revoked: July 23, 2001.

Reason: Failed to maintain a valid bond.

License Number: 16987F.

Name: TAT International, Inc.

Address: 41-79 Main Street, Flushing, NY 11355.

Date Revoked: June 14, 2001.

Reason: Failed to maintain a valid bond.

License Number: 4577F.

Name: Transtar Shipping, Inc.

Address: 405 Victory Avenue, Suite D, So. San Francisco, CA 94080.

Date Revoked: July 27, 2001.

Reason: Failed to maintain a valid bond.

License Number: 14698N.

Name: Trivex Inc. dba Luxor Ocean Line.

Address: 167-43 148th Avenue, Jamaica, NY 11434.

Date Revoked: May 29, 2001.

Reason: Surrendered license voluntarily.

License Number: 16633N.

Name: Uniship, Inc.

Address: 320 Pine Avenue, Suite 400, Long Beach, CA 90802.

Date Revoked: July 4, 2001.

Reason: Failed to maintain a valid bond.

License Number: 4195F.

Name: Westrans Air Express (USA) Inc.

Address: 220 W. Ivy Avenue, Inglewood, CA 90302.

Date Revoked: July 3, 2001.

Reason: Failed to maintain a valid bond.

License Number: 4052F.

Name: Xonex International, Inc. dba Xonex International.

Address: 20 E. Commons Boulevard, New Castle, DE 19720.

Date Revoked: June 22, 2001.

Reason: Failed to maintain a valid bond.

Sandra L. Kusumoto,
Director, Bureau of Consumer Complaints and Licensing.

[FR Doc. 01-21867 Filed 8-29-01; 8:45 am]

BILLING CODE 6730-01-P